DEPARTMENT OF THE INTERIOR

Fish and Wildlife Service

50 CFR Part 17

[Docket No. FWS-R8-ES-2009-0044; MO 92210-0-0009]

RIN 1018-AW86

Endangered and Threatened Wildlife and Plants; Designation of Critical Habitat for the Sonoma County Distinct Population Segment of the California Tiger Salamander (Ambystoma californiense)

AGENCY: Fish and Wildlife Service, Interior.

ACTION: Proposed rule; revision and reopening of comment period.

SUMMARY: We, the U.S. Fish and Wildlife Service, announce the reopening of the comment period on our August 18, 2009, proposed designation of critical habitat for the Sonoma County Distinct Population Segment of the California tiger salamander (Ambystoma californiense) under the Endangered Species Act of 1973, as amended. We also announce revisions to the proposed critical habitat unit. In this revised proposal, we add 4,945 ac (2,001 ha) to the proposed critical habitat unit in the general area of Roblar Road, based on peer review and other information submitted in the previous public comment period. In total, we are proposing to designate approximately 55,800 acres (ac) (22,580 hectares (ha)) of land as critical habitat for the Sonoma California tiger salamander. We are reopening the comment period to allow interested parties an opportunity to comment on the revised proposed critical habitat. Comments previously submitted need not be resubmitted and will be fully considered in preparation of the final rule.

DATES: We will consider public comments received on or before July 5, 2011. Comments must be received by 11:59 p.m. Eastern Time on the closing date. Any comments that we receive after the closing date may not be considered in the final decision on this action.

ADDRESSES: You may submit comments by one of the following methods:

• Federal eRulemaking Portal: http://www.regulations.gov. Follow the instructions for submitting comments to Docket No. FWS-R8-ES-2009-0044.

• U.S. mail or hand-delivery: Public Comments Processing, Attn: FWS-R8-ES-2009-0044; Division of Policy and Directives Management; U.S. Fish and Wildlife Service; 4401 N. Fairfax Drive, MS-2042 PDM; Arlington, VA, 22203.

We will post all comments on http://www.regulations.gov. This generally means that we will post any personal information you provide us (see the Public Comments section below for more information).

FOR FURTHER INFORMATION CONTACT: Susan Moore, Field Supervisor, or Karen Leyse, Listing Coordinator, U.S. Fish and Wildlife Service, Sacramento Fish and Wildlife Office, 2800 Cottage Way, Room W-2605, Sacramento, CA 95825; telephone 916-414-6600; facsimile 916-414-6713. Persons who use a telecommunications device for the deaf (TDD) may call the Federal Information Relay Service (FIRS) at 800-877-8339.

SUPPLEMENTARY INFORMATION:

Public Comments

We intend that any final action resulting from this revised proposed rule will be based on the best scientific data available and will be as accurate and as effective as possible. We will accept written comments and information during this reopened comment period on our amended proposed designation of critical habitat for the Sonoma County Distinct Population Segment (Sonoma DPS) of the California tiger salamander that was published in the Federal Register on August 18, 2009 (74 FR 41662), our proposed revised designation (76 FR 2863; January 18, 2011), our draft economic analysis (DEA) of the proposed designation, and the amended required determinations provided in the January 18, 2011, Federal Register (76 FR 2863) document. We will consider information and recommendations from all interested parties. We are particularly interested in comments concerning the addition of the area previously not identified as meeting the criteria for critical habitat, but which now is being proposed as critical habitat. The additional area is located along Roblar Road west of the City of Cotati and State Route 116.

If you submitted comments or information on the proposed rule or revised proposed rule (74 FR 41662; August 18, 2009, or 76 FR 2863; January 18, 2011) during any of the previous comment periods, please do not resubmit them. These comments are included in the public record for this rulemaking, and we will fully consider them in the preparation of our final determination. You may submit your comments and materials concerning this revised proposed rule, the DEA associated with the revised proposed critical habitat designation, and the amended required determinations by one of the methods listed in ADDRESSES.

If you submit a comment via http://www.regulations.gov, your entire submission—including any personal identifying information—will be posted on the website. If your submission is made via a hard copy that includes personal identifying information, you may request at the top of your document that we withhold this information from public review. However, we cannot guarantee that we will be able to do so. We will post all hard copy comments on http://www.regulations.gov. Please include sufficient information with your comments to allow us to verify any scientific or commercial information you include.

Comments and materials we receive, as well as supporting documentation used to prepare this notice, will be available for public inspection at http://www.regulations.gov, or by appointment, during normal business hours, at the U.S. Fish and Wildlife Service (Service), Sacramento Fish and Wildlife Office (see the FOR FURTHER INFORMATION CONTACT). You may obtain copies of the proposed designation of critical habitat (74 FR 41662) and the DEA on the Internet at http://www.regulations.gov at Docket No. FWS-R8-ES-2009-0044, or by mail from the Sacramento Fish and Wildlife Office (see the FOR FURTHER INFORMATION CONTACT).

Background

It is our intent to discuss only those topics directly relevant to the designation of critical habitat in this revised proposed rule. Additional background information can be found in the previously proposed revised critical habitat notice (76 FR 2863; January 18, 2011). Based on peer review information, we now propose a revision to the proposed critical habitat unit for the Sonoma County DPS of the California tiger salamander; accordingly, approximately 55,800 acres (ac) (22,580 hectares (ha)) in Sonoma County, California, meet the definition of critical habitat. The proposed revision adds approximately 4,945 ac (2,001 ha) to the proposed designation.

Revisions to Proposed Critical Habitat

In this notice, we are revising the proposed unit (Santa Rosa Plain Unit), as described in the January 18, 2011 (76 FR 2863), proposed rule based on peer review and other information submitted in the previous public comment period. The information noted that there are three known breeding sites for the Sonoma County DPS of the California tiger salamander in the Roblar Road area. The peer reviewer stated that aerial photographs were reviewed and reconnaissance visits to the area were performed. The peer reviewer commented that the Roblar Road area likely consists of a California tiger salamander metapopulation with multiple known breeding sites. The peer reviewer recommended that we include the area within a minimum of 1.3 miles (mi) (2 kilometers (km)) from each of the three Roblar breeding sites as critical habitat. The 1.3-mi (2-km) distance is based on observations of California tiger salamanders from the nearest breeding ponds (Sweet 1998).

The Roblar Road area contains the physical and biological features essential to the conservation of the species, and these features may require special management considerations or protection. These features include: ponded fresh water habitat inundated during the appropriate timeframe and for the appropriate duration; upland habitats adjacent and accessible to and from ponds that contain underground refugia; and upland dispersal habitat between occupied locations that allow for movement between ponded or upland sites. Based on life history, dispersal capabilities, and habitat use by the species, we consider this additional area to have been occupied by the species at the time of listing. However, even if this additional breeding area was not occupied at the time of listing, we consider the Roblar Road area essential for the conservation of the species, based on the species' limited distribution within fragmented habitat within the Santa Rosa Plain area.

The proposed addition totals approximately 4,945 ac (2,001 ha). Table 1 below shows the approximate area and landownership within the unit. We are revising the final economic analysis (FEA) to include this additional area in the analysis, utilizing the same methodology to estimate economic impacts employed in the DEA. The FEA will contain an addendum explaining these anticipated economic costs and impacts.

Table 1—Proposed Critical Habitat
[Area estimates reflect all land within the critical habitat unit boundary]
Santa Rosa Plain Unit: Land ownership by type | Santa Rosa Plain Unit: Size of area in acres (hectares)
Federal | 0 (0)
State | 984 (398)
City | 805 (326)
County | 633 (256)
Tribal | 264 (107)
Private | 53,114 (21,494)
Total | 55,800 (22,580)
Note: Area sizes may not sum due to rounding.

In summary, the purpose of this revision to the proposed critical habitat is to better delineate the areas that contain the physical or biological features essential to the conservation of the species and that meet the definition of critical habitat for the California tiger salamander in Sonoma County. This revision is based on recent documentation of adult California tiger salamanders and known breeding ponds in the vicinity of Roblar Road.

Author(s)

The primary authors of this notice are the staff members of the Sacramento Fish and Wildlife Office (see FOR FURTHER INFORMATION CONTACT section).

List of Subjects in 50 CFR Part 17

Endangered and threatened species, Exports, Imports, Reporting and recordkeeping requirements, Transportation.

Proposed Regulation Promulgation

Accordingly, we propose to further amend part 17, subchapter B of chapter I, title 50 of the Code of Federal Regulations, as proposed to be amended at 74 FR 41662, August 18, 2009, as follows:

PART 17—ENDANGERED AND THREATENED WILDLIFE AND PLANTS

1. The authority citation for part 17 continues to read as follows:

Authority: 16 U.S.C. 1361-1407; 16 U.S.C. 1531-1544; 16 U.S.C. 4201-4245; Pub. L. 99-625, 100 Stat. 3500; unless otherwise noted.

2. Critical habitat for the California tiger salamander (Ambystoma californiense) in Sonoma County at § 17.95(d) is proposed to be amended by revising the heading, paragraph (53)(i), and paragraph (56) to read as follows:

§ 17.95 Critical habitat—fish and wildlife.

* * * * *

(d) Amphibians.

* * * * *

California Tiger Salamander (Ambystoma californiense)

* * * * *

California Tiger Salamander (Ambystoma californiense) in Sonoma County

* * * * *

(53) * * *

(i) Standing bodies of fresh water (including natural and manmade (e.g., stock) ponds, vernal pools, and other ephemeral or permanent water bodies) that typically support inundation during winter and early spring and hold water for a minimum of 12 consecutive weeks in a year of average rainfall.

* * * * *

(56) Santa Rosa Plain Unit, Sonoma County, California.

(i) [Reserved for textual description of the Santa Rosa Plain Unit, Sonoma County, California.]

(ii) Note: Map of Santa Rosa Plain Unit, Sonoma County, California, follows:

BILLING CODE 4310-55-P

* * * * *

Dated: June 13, 2011.
Rachel Jacobson,
Acting Assistant Secretary for Fish and Wildlife and Parks.

[FR Doc. 2011-15403 Filed 6-20-11; 8:45 am]

BILLING CODE 4310-55-C